DEPARTMENT OF COMMERCE

Census Bureau

Census Scientific Advisory Committee; Public Virtual Meeting

AGENCY: Bureau of the Census, Department of Commerce.

ACTION: Notice of meeting.

SUMMARY: The Bureau of the Census (Census Bureau) is giving notice of a virtual meeting of the Census Scientific Advisory Committee (CSAC or Committee). The Committee will address policy, research, and technical issues relating to a full range of Census Bureau programs and activities, including decennial, economic, field operations, information technology, and statistics. Last minute changes to the schedule are possible, which could prevent giving advance public notice of schedule adjustments. Please visit the Census Advisory Committee's website at http://www.census.gov/cac for the CSAC meeting information, including the agenda, and how to join the meeting.

DATES: The virtual meeting will be held on:

• Thursday, September 17, 2020, from 11:00 a.m. to 5:00 p.m. EDT, and

• Friday, September 18, 2020, from 11:00 a.m. to 5:00 p.m. EDT.

ADDRESSES: The meeting will be held via the WebEx platform at the following presentation links:

• September 17, 2020— https://census.webex.com/census/onstage/g.php?MTID=ed9200a9944118dd156f0d5c8af5b57ba.

• September 18, 2020— https://census.webex.com/census/onstage/g.php?MTID=eed27bea4fe2b7d5b52b48b9fba6df099.

For audio, please call the following number: 1-888-946-7616. When prompted, please use the following Password (CSAC) and Participant Code: 8708263.

FOR FURTHER INFORMATION CONTACT: Shana Banks, Advisory Committee Branch Chief, Office of Program, Performance and Stakeholder Integration (PPSI), shana.j.banks@census.gov, Department of Commerce, U.S. Census Bureau, Room 2K128F, 4600 Silver Hill Road, Washington, DC 20233, telephone 301-763-3815. For TTY callers, please use the Federal Relay Service at 1-800-877-8339.

SUPPLEMENTARY INFORMATION: The Committee provides scientific and technical expertise, as appropriate, to address Census Bureau program needs and objectives. The members of the CSAC are appointed by the Director, Census Bureau. The Committee has been established in accordance with the Federal Advisory Committee Act (Title 5, United States Code, Appendix 2, Section 10). The purpose of the meeting is to:

1. Provide and update members on scientific and technical activities; and

2. address Census Bureau program needs and objectives.

All meetings are open to the public. A brief period will be set aside during the virtual meeting for public comments on September 18, 2020. However, individuals with extensive questions or statements must submit them in writing to shana.j.banks@census.gov, (subject line “2020 CSAC Fall Virtual Meeting Public Comment”).

Steven D. Dillingham, Director, Bureau of the Census approved the publication of this notice in the Federal Register.

Dated: August 14, 2020.
Sheleen Dumas,
Department PRA Clearance Officer, Office of the Chief Information Officer, Commerce Department.

[FR Doc. 2020-18195 Filed 8-19-20; 8:45 am]

BILLING CODE 3510-07-P